DEPARTMENT OF HEALTH AND HUMAN SERVICES

Centers for Disease Control and Prevention

[60Day-24-24HQ; Docket No. CDC-2024-00057]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed information collection, as required by the Paperwork Reduction Act of 1995. This notice invites comment on a proposed information collection project titled “Division of Diabetes Translation Programmatic & Participant User Experience Data Collection” (DDTDC). This Generic information collection, will enable CDC's Division of Diabetes Translation (DDT) to collect data required in a timely manner to support the development, refinement, and improvement of DDT's education, training, technical assistance (TA), and communication/marketing activities.

DATES: CDC must receive written comments on or before September 24, 2024.

ADDRESSES: You may submit comments, identified by Docket No. CDC-2024-0057 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. All relevant comments received will be posted without change to www.regulations.gov, including any personal information provided. For access to the docket to read background documents or comments received, go to www.regulations.gov.

Please note: All public comment should be submitted through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of the existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of collecting information on those to respond, including using appropriate automated, electronic, mechanical, or other technological collection techniques or other forms of information technology, e.g., permitting electronic responses; and

5. Assess information collection costs.

Proposed Project

Division of Diabetes Translation Programmatic & Participant User Experience Data Collection (DDTDC)—New—National Center for Chronic Disease Prevention and Health Promotion (NCCDPHP), Centers for Disease Control and Prevention (CDC).

Background and Brief Description

The Division of Diabetes Translation (DDT) plays a crucial role in helping prevent Type 2 diabetes, reducing diabetes complications and disability, and reducing diabetes-related disparities across the United States. DDT accomplishes this by providing education, training, technical assistance (TA), and engaging in communication/marketing activities for various key audiences. These customers include national, state, and local partners, grantees, providers (e.g., lifestyle coaches, diabetes educators, healthcare providers, health/medical and community-based organizations), people with prediabetes, diabetes and their family, friends, and caregivers, and other consumers of DDT products and programs.

For DDT to be able to efficiently and effectively do this work and fulfill its mission, it needs to be able to collect information and feedback from intended audiences in a timely manner and with enough frequency to ensure DDT can deliver clear, effective, efficient, and appropriate customer service. This includes, for instance, collecting data on key audiences' needs, and on the reach, uptake, use, customer experience and satisfaction with DDT's services, products, and related programs, including its education, training, TA and communications services and products. However, in the interest of timely provision of services, DDT often forgoes the important step of getting input from its key audiences on the clarity, efficiency, effectiveness, and appropriateness of the services and resources it develops and provides for them. Skipping this information collection step, or doing so with less frequency, avoids the delay involved in the standard OMB review process increases the risk of DDT wasting both time and money developing and providing education, training, TA, and communication/marketing that will not achieve the intended objectives and will be unclear, irrelevant, or not fully meet the needs of DDT's audiences. It can also have other unintended consequences, such as jeopardizing the credibility of Federal health officials.

The Division of Diabetes Translation Programmatic & Participant User Experience Data Collection (DDTDC) will enable DDT to collect the information they require in a timely manner to:

• Provide clear, effective, efficient, appropriate, and timely education, communication, training, and technical assistance to key audiences and other interested groups, including consumer audiences (e.g., people with prediabetes, diabetes, and their family, friends, and caregivers), providers (e.g., lifestyle coaches, diabetes care and education specialists, healthcare and other providers, health/medical and community-based organizations); and partners (national, state, and local partners).

• Ensure quality and prevent duplication in the development and dissemination of prevention and health information and program activities by DDT to consumers, providers, and state and local partners.

• Conduct exploratory/formative assessments to inform DDT's development of education, communication/marketing, training, and programmatic materials, tools, and resources to support and improve the prevention and management of diabetes. For example, identifying key audiences' knowledge, attitudes, behaviors, motivators, and information needs.

• Assess the impact of programs, messages, educational and training materials among recipients and determine to what extent they meet relevant service-related DDT objectives and goals.

The following are examples of the areas of focus that the data collection activities under this generic information collection mechanism may include:

• Reach, uptake, use, customer experience, and satisfaction with the CDC-recognized lifestyle change programs for Type 2 diabetes prevention, as well as related outcomes (e.g., participant retention and recruitment rates).

• Satisfaction with CDC-recognized lifestyle change programs toolkits, such as the Personal Success Tool and Champion toolkits.

• Reach, uptake, use, customer experience, and satisfaction with diabetes education, type 2 prevention, and diabetes management innovations (such as the Diabetes Self-Management Education and Support services promotion initiative) and related short-term effects on knowledge, awareness, practices (such as information seeking), and outcomes (such as enrollment of people with diabetes or prediabetes).

• Reach, uptake, satisfaction, customer experience, and short-term outcomes of CDC's training and technical assistance resources (such as a webinar or online toolkit).

• Needs assessments for customer experience with, utilization of, and short-term outcomes of technical assistance and trainings for diabetes prevention and management.

• Understandability, ease of use, and appropriateness of diabetes education messages, toolkits, programs, and marketing materials.

• Exploratory assessments of knowledge, attitudes, behaviors, beliefs, barriers, and facilitators to uptake and use of lifestyle change programs for diabetes type 2 prevention and diabetes management services and related innovations, resources, tools, and materials.

Data collection methods proposed include, but are not limited to in-depth individual interviews, cognitive interviews, intercept interviews, group-based discussions (including focus groups and dyads/triads), surveys or questionnaires, knowledge assessments, observational assessments, and implementation and utilization data reporting. Respondents would include key audiences and stakeholders of CDC's work, including representatives of state and local DDT-funded organizations; national, state, and local DDT partners (not CDC-funded); providers of type 2 diabetes prevention and diabetes management programs and services, including lifestyle coaches, diabetes care and educations specialists, healthcare and other providers; heath/medical and community-based organizations implementing programs and services related to type 2 diabetes prevention and diabetes management; people with—and at risk for—diabetes or with prediabetes; family, friends, and caregivers of people with—and at risk for—diabetes or with prediabetes.

As the methods for data collection and audiences may vary with each request submitted under this proposed generic clearance, for each data collection request unique instruments (e.g., surveys, interview guides) will be developed to address the specific topics that information will be collected on. Questions to be asked may focus, for example, on collecting data on the audiences' needs and on the reach, uptake, use, customer experience and satisfaction with DDT's services, products, and programs. Such information will enable DDT to identify ways to improve its services, products, and programs to better meet its audiences' needs and achieve its mission of supporting the prevention of diabetes and reducing diabetes-related complications and disparities across the United States.

The estimated annualized hourly burden anticipated for all data collection methods would total 2,000 hours and include eight to ten data collection activities over the course of a year. There is no cost to the respondents other than their time.

Estimated Annualized Burden Hours
Type of respondents | Data collection methods | Number of respondents | Number of responses per respondent | Average burden per response | Total burden hours
Representatives of state and local DDT-funded organizations; National, State, and Local DDT partners; Providers of type 2 Diabetes Prevention and Diabetes Management Programs and Services; People, family, friends, and caregivers of people with—and at risk for—Diabetes or with Prediabetes | Interviews; Surveys or Questionnaires; Knowledge Assessments; Motivation Assessments, Observational Assessments; Implementation and Utilization Data Reporting | 4,000 | 1 | 30/60 | 2,000
Total |  |  |  |  | 2,000

Jeffrey M. Zirger,
Lead, Information Collection Review Office, Office of Public Health Ethics and Regulations, Office of Science, Centers for Disease Control and Prevention.

[FR Doc. 2024-16492 Filed 7-25-24; 8:45 am]

BILLING CODE 4163-18-P